DEPARTMENT OF TRANSPORTATION

Federal Aviation Administration

14 CFR Part 71

[Docket No. FAA-2023-1026; Airspace Docket No. 23-AGL-7]

RIN 2120-AA66

Amendment of Multiple Air Traffic Service (ATS) Routes and Establishment of Area Navigation (RNAV) Route T-478 in the Vicinity of Danville, IL

AGENCY: Federal Aviation Administration (FAA), DOT.

ACTION: Notice of proposed rulemaking (NPRM).

SUMMARY: This action proposes to amend Jet Route J-84, United States Area Navigation (RNAV) route Q-42, and Very High Frequency (VHF) Omni-directional Range (VOR) Federal airways V-171 and V-251, and establish RNAV route T-478. The FAA is proposing this action due to the planned decommissioning of the VOR portion of the Danville, IL (DNV), VOR/Tactical Air Navigation (VORTAC) navigational aid (NAVAID). The Danville VOR is being decommissioned in support of the FAA's VOR Minimum Operational Network (MON) program.

DATES: Comments must be received on or before June 22, 2023.

ADDRESSES: Send comments identified by FAA Docket No. FAA-2023-1026 and Airspace Docket No. 23-AGL-7 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION: Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX, 76177.

Incorporation by Reference

Jet Routes are published in paragraph 2004, United States RNAV Routes (Q-routes) are published in paragraph 2006, VOR Federal airways are published in paragraph 6010(a), and United States RNAV Routes (T-routes) are published in paragraph 6011 of FAA Order JO 7400.11, Airspace Designations and Reporting Points, which is incorporated by reference in 14 CFR 71.1 on an annual basis. This document proposes to amend the current version of that order, FAA Order JO 7400.11G, dated August 19, 2022, and effective September 15, 2022. These updates would be published in the next update to FAA Order JO 7400.11. That order is publicly available as listed in the ADDRESSES section of this document.

FAA Order JO 7400.11G lists Class A, B, C, D, and E airspace areas, air traffic service routes, and reporting points.

Background

The FAA is planning to decommission the VOR portion of the Danville, IL, VORTAC in January 2024. The Danville VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082.

Although the VOR portion of the Danville VORTAC is planned for decommissioning, the co-located Tactical Air Navigation (TACAN) portion of the NAVAID is being retained. The TACAN would continue to provide navigational service for military operations and Distance Measuring Equipment (DME) service supporting current and future NextGen PBN flight procedure requirements.

The ATS routes affected by the planned decommissioning of the Danville VOR are J-84, Q-42, V-171, and V-251. With the planned decommissioning of the Danville VOR, the remaining ground-based NAVAID coverage in the area is insufficient to enable the continuity of the affected routes. As such, proposed modifications to J-84 and V-251 would result in the ATS routes being shortened; to V-171 would result in a second gap being added in the route; and to Q-42 would result in the route being amended to replace the Danville VORTAC route point, as well as the Kirksville, MO, VORTAC and the Muncie, IN, VOR/DME route points, with a waypoint (WP).

To address the affected ATS route proposed amendments, instrument flight rules (IFR) traffic could use adjacent Jet Routes J-73, J-80, and J-89 in the high-altitude stratum, VOR Federal airways V-55, V-274, or V-277 in the low-altitude stratum, or request air traffic control (ATC) radar vectors to fly around or through the affected area. Additionally, pilots equipped with RNAV capabilities could also navigate point to point using the existing fixes that would remain in place to support continued operations though the affected area. Visual flight rules (VFR) pilots who elect to navigate via the affected ATS routes could also take advantage of the adjacent routes or ATC services listed previously.

Additionally, the FAA proposes to establish RNAV route T-478 between the Champaign, IL, VORTAC and the Boiler, IN, VORTAC as a mitigation to the portion of V-251 affected by the planned Danville VOR decommissioning. The new T-478 would also provide non-radar routing between the RIVRS Fix located near the Bowling Green, MO, area and the Champaign VORTAC.

Prior to this NPRM, the FAA published a rule for Docket No. FAA-2022-1395 in the Federal Register (88 FR 18023; March 27, 2023) amending J-84 by removing the route segment overlying the Wolbach, NE, VORTAC between the Sidney, NE, VOR/DME and the Dubuque, IA, VORTAC. The J-84 route amendment is effective June 15, 2023 and is reflected in this action.

The Proposal

The FAA is proposing an amendment to 14 CFR part 71 to amend Jet Route J-84, RNAV route Q-42, and VOR Federal airways V-171 and V-251, and to establish RNAV route T-478 due to the planned decommissioning of the VOR portion of the Danville, IL, VORTAC. The proposed ATS route actions are described below.

J-84: J-84 currently extends between the Oakland, CA, VOR/DME and the Sidney, NE, VOR/DME; and between the Dubuque, IA, VORTAC and the Danville, IL, VORTAC. The FAA proposes to remove the route segment between the Northbrook, IL, VOR/DME and the Danville, IL, VORTAC. As amended, the route would be changed to extend between the Oakland VOR/DME and the Sidney VOR/DME and between the Dubuque VORTAC and the Northbrook VOR/DME.

Q-42: Q-42 currently extends between the Kirksville, MO, VORTAC and the ZIMMZ, PA, Fix. The FAA proposes to replace the Kirksville VORTAC route point with the LEWRP, MO, WP; replace the Danville, IL, VORTAC route point with the LCOLN, IL, WP; and replace the Muncie, IN, VOR/DME route point with the SNKPT, IN, WP. Additionally, editorial corrections to the state abbreviation and the type of route point for the ZIMMZ Fix would be made to match the National Airspace System Resource (NASR) database information. As amended, the route would be changed to extend between the LEWRP, MO, WP and the ZIMMZ, PA, Fix.

V-171: V-171 currently extends between the Lexington, KY, VOR/DME and the Joliet, IL, VOR/DME; and between the Nodine, MN, VORTAC and the Roseau, MN, VOR/DME. The FAA proposes to remove the airway segment between the Terre Haute, IN, VORTAC and the Peotone, IL, VORTAC. As amended, the airway would be changed to extend between the Lexington VOR/DME and the Terre Haute VORTAC, between the Peotone VORTAC and the Joliet VOR/DME, and between the Nodine VORTAC and the Roseau VOR/DME. Additional amendments to the airway have been proposed in a separate rulemaking action.

V-251: V-251 currently extends between the Adders, IL, VORTAC and the Boiler, IN, VORTAC. The FAA proposes to remove the airway segment between the Champaign, IL, VORTAC and the Boiler, IN, VORTAC. As amended, the airway would be changed to extend between the Adders VORTAC and the Champaign VORTAC.

T-478: T-478 is a new RNAV route the FAA proposes to establish between the RIVRS, MO, Fix located northeast of the Bolling Green, MO, area and the BOLRR, IN, WP that is being established near the Boiler, IN, VORTAC. This proposed T-route would provide routing between the Champaign, IL, VORTAC and the Lafayette, IN, area to mitigate the proposed removal of the V-251 airway segment addressed above and provide non-radar routing between the RIVRS Fix and the Champaign VORTAC, when needed.

All NAVAID radials listed in the VOR Federal airway V-171 description below are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 2004 Jet Routes.

* * * * *

J-84 [Amended]

From Oakland, CA; Linden, CA; Mina, NV; Delta, UT; Meeker, CO; to Sidney, NE. From Dubuque, IA; to Northbrook, IL.

* * * * *

Paragraph 2006 United States Area Navigation Routes.

* * * * *

Q-42 LEWRP, MO to ZIMMZ, PA [Amended]
LEWRP, MO | WP | (Lat. 40°08′06.06″ N, long. 092°35′30.15″ W)
STRUK, IL | WP | (Lat. 40°14′03.66″ N, long. 090°18′21.50″ W)
LCOLN, IL | WP | (Lat. 40°17′37.55″ N, long. 087°33′25.36″ W)
SNKPT, IN | WP | (Lat. 40°14′13.96″ N, long. 085°23′39.21″ W)
HIDON, OH | WP | (Lat. 40°10′00.00″ N, long. 081°37′27.00″ W)
BUBAA, OH | WP | (Lat. 40°10′27.00″ N, long. 080°58′17.00″ W)
PSYKO, PA | WP | (Lat. 40°08′37.00″ N, long. 079°09′13.00″ W)
BRNAN, PA | WP | (Lat. 40°08′07.00″ N, long. 077°50′06.70″ W)
HOTEE, PA | WP | (Lat. 40°20′36.00″ N, long. 076°29′37.00″ W)
SPOTZ, PA | WP | (Lat. 40°45′55.00″ N, long. 075°22′59.00″ W)
ZIMMZ, PA | FIX | (Lat. 40°48′11.00″ N, long. 075°07′25.00″ W)

* * * * *

Paragraph 6010(a) Domestic VOR Federal Airways.

* * * * *

V-171 [Amended]

From Lexington, KY; INT Lexington 251° and Louisville, KY, 114° radials; Louisville; to Terre Haute, IN. From Peotone, IL; INT Peotone 281° and Joliet, IL, 173° radials; to Joliet. From Nodine, MN; INT Nodine 298° and Farmington, MN, 124° radials; Farmington; Darwin, MN; Alexandria, MN; INT Alexandria 321° and Grand Forks, ND, 152° radials; Grand Forks; to Roseau, MN.

* * * * *

V-251 [Amended]

From Adders, IL; to Champaign, IL.

* * * * *

Paragraph 6011 United States Area Navigation Routes.

* * * * *

T-478 RIVRS, IL to BOLRR, IN [New]
RIVRS, IL | FIX | (Lat. 39°25′21.41″ N, long. 090°55′56.70″ W)
Spinner, IL (SPI) | VORTAC | (Lat. 39°50′23.04″ N, long. 089°40′39.85″ W)
Champaign, IL (CMI) | VORTAC | (Lat. 40°02′04.31″ N, long. 088°16′33.87″ W)
SLONI, IL | WP | (Lat. 40°11′06.39″ N, long. 087°55′15.88″ W)
LCOLN, IL | WP | (Lat. 40°17′37.55″ N, long. 087°33′25.36″ W)
BOLRR, IN | WP | (Lat. 40°33′22.03″ N, long. 087°04′09.55″ W)

* * * * *

Issued in Washington, DC, on April 21, 2023.
Brian Konie,
Acting Manager, Airspace Rules and Regulations.

[FR Doc. 2023-08824 Filed 5-5-23; 8:45 am]

BILLING CODE 4910-13-P